DEPARTMENT OF LABOR

Employment and Training Administration

[TA-W-61,552]

The Hershey Company, Oakdale Plant; Oakdale, California; Dismissal of Application for Reconsideration

Pursuant to 29 CFR 90.18(C) an application for administrative reconsideration was filed with the Director of the Division of Trade Adjustment Assistance for workers at The Hershey Company, Oakdale Plant, Oakdale, California. The application did not contain new information supporting a conclusion that the determination was erroneous, and also did not provide a justification for reconsideration of the determination that was based on either mistaken facts or a misinterpretation of facts or of the law. Therefore, dismissal of the application was issued.

TA-W-61,552; The Hershey Company, Oakdale Plant, Oakdale, California (August 16, 2007).

Signed at Washington, DC this 21st day of August 2007.
Ralph DiBattista,
Director, Division of Trade Adjustment Assistance.

[FR Doc. E7-17044 Filed 8-28-07; 8:45 am]

BILLING CODE 4510-FN-P